DEPARTMENT OF HOMELAND SECURITY

Coast Guard

[Docket Number USCG-2024-0281]

Operational Adjustments Resulting From Workforce Shortages

AGENCY: Coast Guard, DHS.

ACTION: Notice and request for comments.

SUMMARY: We are requesting your comments on planned actions that will allow the Coast Guard to prioritize lifesaving missions and protection of the Marine Transportation System in light of current personnel shortages. Like other military services, the Coast Guard is facing an unprecedented workforce shortage that is impacting Service readiness. The current and forecasted extent of the shortage is prompting significant actions to best protect the American public and maintain Service readiness. If actions are not taken to adjust operations, we can anticipate longer-term impacts to mission effectiveness and increased risk to our service members, as well as to commercial mariners and private boaters. In addition to leveraging technology and enhancing recruitment and retention efforts, operational adjustments must be executed within the existing response system while maintaining standards and an adherence to core mission execution. These adjustments fall into two categories: First, in regions where multiple units could respond if they were resourced appropriately, boats and people will be consolidated at one or more units to ensure a robust response. Secondly, in areas where the Coast Guard operates limited, or seasonal units that do not have sufficient personnel to respond, operations will be temporarily paused as resources are moved to higher priority areas. These adjustments will remain in effect until the Coast Guard has sufficient personnel to reconstitute these units.

DATES: Written comments and related material may be submitted to the Coast Guard personnel specified below. Your comments and related material must reach the Coast Guard on or before May 24, 2024.

ADDRESSES: You may submit comments identified by docket number USCG-2024-0281 using the Federal rulemaking portal at https://www.regulations.gov. See the “Public Participation and Request for Comments” portion of the SUPPLEMENTARY INFORMATION section for further instructions on submitting comments.

FOR FURTHER INFORMATION CONTACT: For information about this document, please email Kiesha Miller (202-372-4632) at SMB-COMDT-TempOpsAdjust@uscg.mil.

SUPPLEMENTARY INFORMATION:

I. Table of Abbreviations

CFR Code of Federal Regulations

DHS Department of Homeland Security

GAO Government Accountability Office

II. Background and Purpose

The Coast Guard continues to experience recruiting challenges, leading to workforce shortages impacting frontline operations and Service readiness. Personnel in impacted areas are largely boat operators and engineers, who form the bedrock of Coast Guard operations. The Coast Guard is proactively adjusting operations and prioritizing personnel assignments to specific operational units to ensure the Service remains always ready to serve the American public. This notice meets the requirements for 14 U.S.C. 910.

III. Discussion

The following units will transition for use as a forward operating location (i.e., a staging area at unit commander discretion): Stations-Small Scituate, MA; East Moriches, NY; Great Egg, NJ; Beach Haven, NJ; Townsends Inlet, NJ; Stillpond, MD; Fortescue, NJ; Sodus Point, NY; Ashtabula, OH; Lorain, OH; Harbor Beach, MI; Muskegon, MI; Alpena, MI; Frankfort, MI; Ludington, MI; DuSable Harbor, IL; Wilmette Harbor, IL; Two Rivers, WI; Washington Island, WI; Green Bay, WI; Santa Cruz, CA; Coquille River, OR; and Rogue River, OR. These units already consolidate for some portion of the year.

The following units currently do not maintain a duty crew to conduct response operations, and will temporarily pause boat operations altogether: Stations Paducah, KY; Pittsburgh, PA; St. Louis, MO; Louisville; KY, and Memphis; TN and boat operations in Huntington, WV.

IV. Public Participation and Request for Comments

We encourage you to submit comments through the Federal portal at https://www.regulations.gov. If your material cannot be submitted using https://www.regulations.gov, contact the person in the FOR FURTHER INFORMATION CONTACT section of this document for alternate instructions. In your submission, please include the docket number for this notice and provide a reason for each suggestion or recommendation. We will review all comments received, but we may choose not to post off-topic, inappropriate, or duplicate comments that we receive.

We accept anonymous comments. Comments we post to https://www.regulations.gov will include any personal information you have provided. For more about privacy and submissions in response to this document, see DHS's eRulemaking System of Records notice (85 FR 14226, March 11, 2020).

Jason C. Aleksak,
Captain, U.S. Coast Guard, Chief, Office of Boat Forces.

[FR Doc. 2024-08978 Filed 4-25-24; 8:45 am]

BILLING CODE 9110-04-P